DEPARTMENT OF TRANSPORTATION

Maritime Administration

[USCG-2006-24644]

TORP Terminal LP, Bienville Offshore Energy Terminal Liquefied Natural Gas Deepwater Port License Application Amendment; Preparation of Supplemental Environmental Impact Statement

AGENCY: Maritime Administration, DOT.

ACTION: Notice of Amended Application; Notice of Intent.

SUMMARY: The Maritime Administration and the U.S. Coast Guard announce receipt of an application amendment for the licensing of the TORP Terminal LP, Bienville Offshore Energy Terminal (BOET) liquefied natural gas (LNG) deepwater port. The application amendment contains the information required to continue processing the application. This notice summarizes the applicant's plans and the procedures that will be followed in considering this application amendment. The Coast Guard, in coordination with the Maritime Administration, will prepare a Supplemental Environmental Impact Statement (SEIS) as part of the environmental review of this license application amendment.

The application amendment describes the proposed change in project regasification technology from the “open-loop” LNG vaporization system originally proposed for TORP BOET to a “closed-loop” LNG vaporization system. The proposed vaporization system consists of a floating regasification unit (FRU) that contains ambient air vaporization (AAV) equipment to heat an intermediate fluid that would be sent via flexible pipes to a HiLoad floating regasification unit. The HiLoad would dock to a LNG carrier to provide station-keeping, vaporization of the LNG on the HiLoad, and transfer of natural gas back to the FRU in a closed-loop system. The proposed facility would be located in the Gulf of Mexico, in Main Pass Block MP 258, approximately 63 miles south of Fort Morgan, Alabama. This location is the same as that proposed in the original application. The Draft and Final Environmental Impact Statements were published on the original application on July 6, 2007 and August 8, 2008, respectively.

ADDRESSES: Copies of the original license application, the Draft and Final Environmental Impact Statements (DEIS/FEIS), the application amendment and associated comments and documentation are available for viewing at the Federal Docket Management System (FDMS) Web site: http://www.regulations.gov under docket number USCG-2006-24644.

FOR FURTHER INFORMATION CONTACT: LT Hannah Kawamoto, U.S. Coast Guard, telephone: 202-372-1437, e-mail: Hannah.K.Kawamoto@uscg.mil. If you have questions on viewing the docket, call Renee V. Wright, Program Manager, Docket Operations, telephone 202-493-0402.

SUPPLEMENTARY INFORMATION:

Receipt of Application Amendment

On June 30, 2009, the Coast Guard and Maritime Administration received an amendment for the Bienville Offshore Energy Terminal (BOET) deepwater port license application from TORP Terminal LP.

Background

The construction and operation of a deepwater port must be authorized by the Secretary of Transportation (as delegated to the Administrator of the Maritime Administration). The Coast Guard and Maritime Administration are the lead federal agencies for reviewing the sufficiency of deepwater port license applications and assessing the proposed project's environmental impact on the quality of the human environment (see 33 CFR part 148 et seq.).

After receiving the original application, the Maritime Administration and the Coast Guard completed a Draft EIS released on July 6, 2007. An informational open house and a public meeting were held in Mobile, Alabama to allow public comment and involvement. The Final EIS was released on August 8, 2008, and the final license hearing was held on August 26, 2008, in Alabama, the designated adjacent coastal state.

During the original application's public interest review process, public and agency comments were submitted. Several comments were received that discussed ambient air vaporization (AAV) technology as a reasonable alternative for the project's regasification technology. The Final EIS included a brief discussion and evaluation of the AAV technology. The Final EIS also included a brief discussion and evaluation of a floating storage and regasification unit (FSRU). In the application amendment, the applicant is proposing to use a floating regasification unit (FRU). The difference between a FSRU and FRU system is that the FRU would not have any LNG storage capability.

In the application amendment, the applicant proposes to amend the project to use AAV on a FRU to indirectly heat LNG on a single HiLoad in a closed-loop system. The original application proposed to operate an open-loop system using two HiLoads and a support platform. As stated above, AAV was discussed in the original application's FEIS as a generic system based on an existing application of this technology at an onshore LNG facility. The application amendment contains a diagram of the actual AAV design that is proposed to be used.

After consulting with cooperating Federal agencies, the Coast Guard and Maritime Administration have determined that a Supplemental Environmental Impact Statement (SEIS) will provide the appropriate level of information for the National Environmental Policy Act (NEPA) review and analysis. The decision to produce a SEIS was based upon the finding that the proposed application amendment: (i) Makes substantial changes in the proposed action that are relevant to environmental concerns; and (ii) contains significant new circumstances or information relevant to environmental concerns and which bear on the proposed action or its impacts. The SEIS will describe the project's changed regasification system. As much as possible, the SEIS will incorporate by reference the recently published Bienville Offshore Energy Terminal (BOET) FEIS.

The SEIS process will allow ample opportunity for meaningful public comment and involvement. The Coast Guard and Maritime Administration's initial review of the proposed project changes indicate a reduction in impacts in several key resource areas that were originally identified with the open-loop system. In addition, comments from cooperating Federal agencies and the public on the original EIS discussed and supported the closed-loop AAV technology as an environmentally preferred alternative.

The Council on Environmental Quality's NEPA Regulations (40 CFR 1502.9(c)(4)) provide that scoping is not required for a SEIS. Once completed, a Draft SEIS will be announced in the Federal Register and made available for public comment. Following completion and release of the Draft SEIS, there will be a public notice and a 30-day comment period where the Coast Guard and Maritime Administration will receive comments on both the amended application and the Draft SEIS. A public meeting will be held in Alabama approximately two weeks after release of the Draft SEIS. The Coast Guard and Maritime Administration will consider all comments and address them in the Final SEIS. Following completion and release of the Final SEIS, there will be public notice and a 30-day comment period where the Coast Guard and Maritime Administration will receive comments on the Final SEIS. A final license hearing will be held in Alabama approximately two weeks after the release of the Final SEIS. A 45-day comment period will follow the final license hearing during which Federal agencies may provide input to the Maritime Administrator, and the Governor of Alabama may advise the Maritime Administrator of his decision to approve or disapprove the license application. Within 90 days of the final license hearing, the Maritime Administration will issue a record of decision (ROD) on the application.

Questions about the proposed action or the SEIS process may be addressed to the Coast Guard project manager identified in FOR FURTHER INFORMATION CONTACT.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

Authority: 49 CFR 1.66.

Dated: July 28, 2009.
By order of the Maritime Administrator.
Murray Bloom,
Acting Secretary, Maritime Administration.

[FR Doc. E9-18682 Filed 8-4-09; 8:45 am]

BILLING CODE P